DEPARTMENT OF THE INTERIOR

National Park Service

Intent to Conduct Restoration Planning, S.S. Jacob Luckenbach, San Francisco, CA

AGENCIES: The National Park Service, the Fish and Wildlife Service, and the Bureau of Land Management, of U.S. Department of the Interior; National Oceanic and Atmospheric Administration, Department of Commerce; State of California Department of Fish and Game, Office of Spill Prevention and Response.

ACTION: Notice of intent to conduct restoration planning.

SUMMARY: Pursuant to section 1006 of the Oil Pollution Act (OPA), 33 U.S.C. 2701 et seq., designated Federal and State trustees for natural resources are authorized to assess natural resource damages resulting from oil spills into navigable waters and develop and implement a plan for restoration. The Federal and State trustees for natural resources for this incident include the United States Department of the Interior (DOI), acting through the U.S. Fish and Wildlife Service (FWS) on behalf of the Bureau of Land Management (BLM) and the National Park Service (NPS); the U.S. Department of Commerce (DOC), acting through the National Oceanic and Atmospheric Administration (NOAA); and the California Department of Fish and Game (CDFG), acting through its Office of Spill Prevention and Response (OSPR) (hereafter collectively referred to as “the natural resource trustees” or “the trustees”). Section 990.44 of the Natural Resource Damage Assessment (“NRDA”) Regulations under OPA, 15 CFR part 990, provides for the natural resource trustees to prepare a notice of intent to conduct restoration planning if certain requirements are met and they decide to proceed with a natural resource damage assessment.

Pursuant to section 990.44 of the OPA-NRDA Regulations, the natural resource trustees announce their intent to proceed with restoration planning actions to address injuries to natural resources along the central California coastal area caused by the chronic discharge of oil from the incident. The purpose of this restoration planning effort is to further evaluate injuries to natural resources and services and use that information to determine the need for and type and scale of restoration actions.

Since the incident, the trustees' have initiated a number of preassessment data collection activities. The data demonstrate that natural resource injuries to seabirds and wildlife, and other natural resources have occurred. The trustees have implemented or are developing studies to assess the extent of these injuries.

FOR FURTHER INFORMATION CONTACT: Jim Haas, U.S. Fish and Wildlife Service, 2800 Cottage Way, W-2605, Sacramento, California 95825. (916) 414-9740.

SUPPLEMENTARY INFORMATION: On July 14, 1953, the S.S. Jacob Luckenbach, owned by the Luckenbach Steamship Company, sank as a result of a collision with the S.S. Hawaiian Pilot, owned by the Matson Navigation Company. The Luckenbach is a 468-foot freight ship that sank approximately 17 miles southwest of the Golden Gate Bridge. The vessel now rests in 175 feet of water in the Gulf of the Farallones National Marine Sanctuary.

On November 23, 2001, oiled seabirds and tarballs began washing ashore primarily along the San Mateo County coastline. The U.S. Coast Guard and California Department of Fish and Game responded to the incident by implementing beach surveys to recover oiled birds and activating the oiled wildlife care network. Concurrently, chemical analyses of oiled feathers were conducted and compared to known oil samples in an attempt to identify the source of the oil. Samples of oil from feathers collected from November 25, 2001, through January 4, 2002, matched historical samples taken from similar mystery incidents in 1992-93, 1997-98 (also referred to as the Point Reyes tarball incident), 1999, and February 2001. Those samples were, in turn, matched to oil samples from the S.S. Jacob Luckenbach.

The U.S. Coast Guard's Marine Safety Office San Francisco Bay, the California Department of Fish and Game Office of Spill Prevention and Response (OSPR) and Titan Maritime, Inc. have completed oil removal operations from the Luckenbach. Several representatives from the trustee agencies formed a task force to advise the responders concerning the resources that were at risk from the proposed salvage operations.

The Federal trustees for this incident are the United States Department of the Interior (DOI), including the Bureau of Land Management (BLM), the National Park Service (NPS), and the U.S. Fish and Wildlife Service (FWS); the U.S. Department of Commerce (DOC), acting through the National Oceanic and Atmospheric Administration (NOAA). The Federal trustees are designated pursuant to the National Contingency Plan (40 CFR 300.600 and 300.605). The State trustee for this incident is the California Department of Fish and Game (CDFG) acting through its Office of Spill Prevention and Response (OSPR) under California's Lempert-Keene-Seastrand Oil Spill Prevention and Response Act, Government Code sections 8670.1 et seq.

The U.S. Coast Guard National Pollution Funds Center (NPFC) approved a funding request submitted by the trustees to initiate natural resource damage assessment activities for the incident. The trustees' initiation activities focused on the elements necessary to make a determination to conduct restoration planning and establish an administrative record. In addition, ephemeral data collection was implemented to evaluate the completeness of beach survey forms and monitor post-breeding movements of the Santa Cruz Mountains population of the endangered marbled murrelet, a seabird that breeds in old growth forests along the Pacific coast. Because the trustees are still analyzing the results of these studies, the information is not yet available. However, the trustees have sufficient information to make a determination to conduct restoration planning.

Administrative Record: The trustees have opened an administrative record (record) in compliance with 15 CFR 990.45. The record will include documents relied upon by the trustees during the assessment performed in conjunction with the incident.

The record is located at California's Department of Fish & Games Office of Spill Prevention and Response, 1700 K Street, Suite 250, Sacramento, CA 95814. Arrangements may be made to review the record by contacting Dr. Steve Hampton at California's Department of Fish & Games Office of Spill Prevention and Response, 1700 K Street, Suite 250, Sacramento, CA 95814 or by calling him at 916-323-4724.

A copy of the record is also located at the Gulf of the Farallones National Marine Sanctuary, Ft. Mason, Building 201, San Francisco, CA 94123. Arrangements may be made to review it by contacting Jan Roletto at that address or by calling her at 415-561-6622.

Trustees' Determinations of Jurisdiction

The trustees have made the following determinations pursuant to 15 CFR 990.41 and 990.42.

1. Beginning on or about November 23, 2001, oiled sea birds began washing ashore primarily along the San Mateo County coastline. This occurrence resulted from the discharge of oil from the sunken vessel, the S.S. Jacob Luckenbach. This discharge was an incident as defined at 15 CFR 990.30. In addition, oil samples from the Luckenbach match oil samples collected during oil spill events in the San Francisco Bay area in 1992-93, 1997-98 (sometimes referred to as the Point Reyes tarball incident) and two smaller events in 1999 and 2001, and for which a source had not previously been identified.

2. The incident was not permitted under a permit issued under Federal, State, or local law: was not from a public vessel; and was not from an offshore facility subject to the Trans-Alaska Pipeline Authority Act, 43 U.S.C. 1651 et seq.

3. Oil discharged during the incident affected marine habitats, wildlife, and human uses in the area. Consequently, natural resources under the trusteeship of the trustees have been injured as a result of the incident.

4. As a result of the foregoing determinations, the trustees have jurisdiction to pursue restoration under the Federal Oil Pollution Act (OPA), 33 U.S.C. 2701-2761, and California's Lempert-Keene-Seastrand Oil Spill Prevention and Response Act, Government Code sections 8670.1 et seq.

Trustees' Determination To Conduct Restoration Activities

For reasons discussed below, the trustees have made the determinations required by 15 CFR 990.42(a) and are proceeding with restoration planning to develop restoration alternatives that will restore, rehabilitate, or acquire the equivalent of natural resources injured and/or natural resource services lost as a result of this incident.

1. Injuries have resulted from this incident. Data collected and analyzed pursuant to 15 CFR 990.43 demonstrate that injuries to natural resources are likely to have resulted from the incident, including, but not limited to sea birds and wildlife.

2. Response actions have not adequately addressed the injuries resulting from the incident. Although response actions were initiated promptly and conducted appropriately, the nature of discharge and the sensitivity of the environment precluded prevention of injuries to some natural resources.

3. Feasible primary and/or compensatory restoration actions exist to address the potential injuries. The trustees will be considering restoration projects that are feasible to implement. The trustees will be considering restoration projects that are feasible to implement, focusing on projects that benefit seabirds.

Based on the above findings, the trustees hereby determine that they have jurisdiction to pursue restoration pursuant to the Oil Pollution Act, 33 U.S.C. 2702 and 2706 and California's Lempert-Keene-Seastrand Oil Spill Prevention and Response Act, Government Code sections 8670.1 et seq.

The public will be given an opportunity for public review and comment on documents contained in the administrative record and on the draft RP/EA when it has been prepared. The trustees intend to prepare, and seek public comment on, a comprehensive draft RP/EA which addresses the natural resource injuries resulting from this incident, from the Point Reyes tarball incident, and from the other mystery spills described above. The trustees will notify the public when the draft RP/EA is released.

Dated: October 30, 2003.
Abigal Miller,
Deputy Associate Director, Natural Resource Stewardship and Science.

[FR Doc. 04-137 Filed 1-5-04; 8:45 am]

BILLING CODE 4310-70-P